DEPARTMENT OF COMMERCE

International Trade Administration

[A-427-009]

Industrial Nitrocellulose From France: Final Results of Antidumping Duty Administrative Review

AGENCY: Import Administration, International Trade Administration, Department of Commerce.

ACTION: Notice of final results of antidumping duty administrative review.

SUMMARY: On September 7, 2001, the Department of Commerce published the preliminary results of the administrative review of the antidumping duty order on industrial nitrocellulose from France. The review covers one manufacturer/exporter, Bergerac, NC. The period of review is August 1, 1999, through July 31, 2000.

We have made no changes to the margin calculation used for the preliminary results of review. Therefore, the final results do not differ from the preliminary results in which we found that sales of the subject merchandise were made below normal value. The final weighted-average dumping margin for Bergerac, NC is listed below in the section entitled “Final Results of Review.”

EFFECTIVE DATE: October 26, 2001.

FOR FURTHER INFORMATION CONTACT: David Dirstine, AD/CVD Enforcement 3, Import Administration, International Trade Administration, U.S. Department of Commerce, 14th Street and Constitution Avenue, NW., Washington, DC 20230; telephone: (202) 482-4033.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department of Commerce's (the Department's) regulations are to 19 CFR part 351 (2000).

Background

On September 7, 2001, the Department of Commerce (the Department) published in the Federal Register (66 FR 46773) the preliminary results of the antidumping duty order on industrial nitrocellulose (INC) from France. The review covers one manufacturer/exporter, Bergerac, NC (BNC). The period of review (POR) is August 1, 1999, through July 31, 2000. The Department is conducting this administrative review in accordance with section 751 of the Act.

We invited interested parties to comment on our preliminary results. BNC submitted a case brief on September 24, 2001, and the petitioner submitted a rebuttal brief on September 28, 2001. On October 3, 2001, the parties requested to withdraw the case and rebuttal briefs, to which there was no objection from any other party. See the October 3, 2001, letter from respondent's counsel to the Secretary of Commerce. On October 5, 2001, we withdrew the case and rebuttal briefs from the record pursuant to the requests of the parties and destroyed them. See memorandum to file from J. David Dirstine dated October 5, 2001. We have not considered or relied upon any argument or information contained in the withdrawn case and rebuttal briefs in making this determination.

Scope of Order

The product covered by this order is INC containing between 10.8 and 12.2 percent nitrogen. INC is a dry, white amorphous synthetic chemical produced by the action of nitric acid on cellulose. The product comes in serveral viscosities and is used to form films in lacquers, coatings, furniture finishes and printing inks. Imports of this product are classified under the Harmonized Tariff Schedule of the United States Annotated (HTSUS) subheadings 3912.20.00 and 3912.90.00. Although the HTSUS item numbers are provided for convenience and customs purposes, the written description of the scope of this proceeding remains dispositive.

Final Results of Review

We made no changes to our preliminary analysis for these final results. The final weighted-average dumping margin for BNC for the period August 1, 1999, through July 31, 2000, is 3.26 percent.

Assessment

The Department shall determine, and the Customs Service shall assess, antidumping duties on all appropriate entries. We have calculated an importer-specific ad valorem duty-assessment rate based on the ratio of the total amount of antidumping duties calculated for the examined sales made during the POR to the total customs entered value of the sales used to calculate these duties. We will direct the Customs Service to assess the resulting percentage margin for the reviewed sales uniformly on all entries of that particular importer during the POR as well as on those entries of subject merchandise for which we applied the special rule for merchandise with value added after importation under section 772(e) of the Act. See 19 CFR 351.212(a).

Cash-Deposit Requirements

The following deposit requirements will be effective upon publication of this notice of final results of administrative review for all shipments of subject merchandise entered, or withdrawn from warehouse, for consumption on or after the date of publication, as provided by section 751(a)(1) of the Act: (1) The cash-deposit rate for BNC will be the rate shown above; (2) for previously reviewed or investigated companies not listed above, the cash-deposit rate will continue to be the company-specific rate published for the most recent period; (3) if the exporter is not a firm covered in this review, a prior review, or the less-than-fair-value investigation but the manufacturer is, the cash-deposit rate will be the rate established for the most recent period for the manufacturer of the merchandise; and (4) the cash-deposit rate for all other manufacturers or exporters will 1.38 percent. This is the “All Others” rate from the less-than-fair-value investigation.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective orders (APO) of their responsibility concerning the return or destruction of proprietary information disclosed under APO in accordance with 19 CFR 351.305(a)(3). Failure to comply with the regulations and terms of an APO is a violation which is subject to sanction.

We are issuing and publishing this determination and notice in accordance with sections 751(a)(1) and 777(i)(1) of the Act.

Dated: October 18, 2001.
Faryar Shirzad,
Assistant Secretary for Import Administration.

[FR Doc. 01-27057 Filed 10-25-01; 8:45 am]

BILLING CODE 3510-DS-P